DEPARTMENT OF AGRICULTURE

Federal Crop Insurance Corporation

[Docket No. FCIC-15-0004]

Notice of Request for Renewal of a Currently Approved Information Collection

AGENCY: Federal Crop Insurance Corporation, USDA.

ACTION: Renewal of approval of an information collection; comment request.

SUMMARY: Note: With the renewal of this package, we are changing the title of the current information collection from General Administrative Regulations; Interpretations of Statutory and Regulatory Provisions to Interpretations of Statutory and Regulatory Provisions and Written Interpretations of FCIC Procedures.

This notice announces a public comment period on the information collection requests (ICRs) associated with the interpretation of statutory and regulatory provisions and written interpretations of FCIC procedures administered by Federal Crop Insurance Corporation (FCIC).

DATES: Written comments on this notice will be accepted until close of business November 23, 2015.

ADDRESSES: FCIC prefers that comments be submitted electronically through the Federal eRulemaking Portal. You may submit comments, identified by Docket ID No. FCIC-15-0004, by any of the following methods:

• Federal eRulemaking Portal: http://www.regulations.gov. Follow the instructions for submitting comments.

• Mail: Director, Product Administration and Standards Division, Risk Management Agency, United States Department of Agriculture, P.O. Box 419205, Kansas City, MO 64133-6205.

All comments received, including those received by mail, will be posted without change to http://www.regulations.gov, including any personal information provided, and can be accessed by the public. All comments must include the agency name and docket number or Regulatory Information Number (RIN) for this document. For detailed instructions on submitting comments and additional information, see http://www.regulations.gov. If you are submitting comments electronically through the Federal eRulemaking Portal and want to attach a document, we ask that it be in a text-based format. If you want to attach a document that is a scanned Adobe PDF file, it must be scanned as text and not as an image, thus allowing FCIC to search and copy certain portions of your submissions. For questions regarding attaching a document that is a scanned Adobe PDF file, please contact the RMA Web Content Team at (816) 823-4694 or by email at rmaweb.content@rma.usda.gov.

Privacy Act: Anyone is able to search the electronic form of all comments received for any dockets by the name of the person submitting the comment (or signing the comment, if submitted on behalf of an association, business, labor union, etc.). You may review the complete User Notice and Privacy Notice for Regulations.gov at http://www.regulations.gov/#!privacyNotice.

SUPPLEMENTARY INFORMATION:

Title: Interpretations of Statutory and Regulatory Provisions and Written Interpretations of FCIC Procedures.

OMB Number: 0563-0055.

Expiration Date of Approval: February 29, 2016.

Type of Request: Extension of a currently approved information collection.

Abstract: FCIC is proposing to renew the currently approved information collection, OMB Number 0563-0055. It is currently up for renewal and extension for three years. The information collection requirements for this renewal package are necessary for FCIC to provide an interpretation of request for a final agency determination and an interpretation of procedures. This data is used to administer the provisions of 7 CFR part 400, subpart X in accordance with the Federal Crop Insurance Act, as amended.

We are asking the Office of Management and Budget (OMB) to extend its approval of our use of this information collection activity for an additional 3 years.

The purpose of this notice is to solicit comments from the public concerning this information collection activity. These comments will help us:

(1) Evaluate whether the proposed collection of information is necessary for the proper performance of the functions of the agency, including whether the information has practical utility;

(2) Evaluate the accuracy of the agency's estimate of the burden of the proposed collection of information;

(3) Enhance the quality, utility, and clarity of the information to be collected; and

(4) Minimize the burden of the collection of information on those who are to respond, through use, as appropriate, of automated, electronic, mechanical, and other collection technologies, e.g., permitting electronic submission of responses.

Estimate of Burden: The public reporting burden for this collection of information is estimated to average 8 hours per response.

Respondents/Affected Entities: Parties affected by the information collection requirements included in this Notice are any producer (including their legal counsel) with a valid crop insurance policy and approved insurance provider (agents, loss adjusters, employees, contractors or legal counsel) with agreement with FCIC.

Estimated Annual Number of Respondents: 32.

Estimated Annual Number of Responses per Respondent: 1.

Estimated Annual Number of Responses: 32.

Estimated Total Annual Burden Hours on Respondents: 256.

Comments are invited on: (1) Whether the proposed collection of information is necessary for the proper performance of the functions of the agency, including whether the information will have practical utility; (2) the accuracy of the agency's estimate of the burden of the proposed collection information; (3) ways to enhance the quality, utility, and clarity of the information to be collected; and (4) ways to minimize the burden of the collection of information on those who are to respond, through use, as appropriate, of automated, electronic, mechanical, or other collection technologies, e.g. permitting electronic submission of responses.

All responses to this notice will be summarized and included in the request for OMB approval. All comments will also become a matter of public record.

Signed in Washington, DC, on September 14, 2015.
Brandon Willis,
Manager, Federal Crop Insurance Corporation.

[FR Doc. 2015-23440 Filed 9-21-15; 8:45 am]

BILLING CODE 3410-08-P